DEPARTMENT OF ENERGY

Office of Energy Efficiency and Renewable Energy

Energy Conservation Program for Consumer Products: Publication of the Petition for Waiver of Fujitsu General Limited From the DOE Residential Air Conditioner and Heat Pump Test Procedures (Case No. CAC-010)

AGENCY: Office of Energy Efficiency and Renewable Energy, Department of Energy.

ACTION: Notice of petition for waiver and solicitation of comments.

SUMMARY: Today's notice publishes a Petition for Waiver from Fujitsu General Limited (Fujitsu). The Fujitsu Petition requests a waiver of the test procedures applicable to residential and commercial package air conditioners and heat pumps. The Department of Energy (DOE) is soliciting comments, data, and information with respect to the Petition for Waiver.

DATES: DOE will accept comments, data, and information not later than March 7, 2005.

ADDRESSES: DOE will accept comments on this Petition, identified by case number CAC-010, and submitted by any of the following methods:

• Mail: Ms. Brenda Edwards-Jones, U.S. Department of Energy, Building Technologies Program, Mailstop EE-2J, 1000 Independence Avenue, SW., Washington, DC 20585-0121.

• Telephone: (202) 586-2945. Please submit one signed paper original.

• Hand Delivery/Courier: Ms. Brenda Edwards-Jones, U.S. Department of Energy, Building Technologies Program, Room 1J-018, 1000 Independence Avenue, SW., Washington, DC 20585.

Docket: For access to the docket to read copies of public comments received, this notice, and the Petition for Waiver, go to the U.S. Department of Energy, Forrestal Building, Room 1J-018 (Resource Room of the Building Technologies Program), 1000 Independence Avenue, SW., Washington, DC, (202) 586-9127, between 9 a.m. and 4 p.m., Monday through Friday, except Federal holidays. Please call Ms. Brenda Edwards-Jones at the above telephone number for additional information regarding visiting the Resource Room. Please note: The Department's Freedom of Information Reading Room (formerly Room 1E-190 at the Forrestal Building) is no longer housing rulemaking materials.

FOR FURTHER INFORMATION CONTACT: Dr. Michael G. Raymond, U.S. Department of Energy, Building Technologies Program, Mail Stop EE-2J, Forrestal Building, 1000 Independence Avenue, SW., Washington, DC 20585-0121, (202) 586-9611; e-mail: Michael.Raymond.ee.doe.gov; or Francine Pinto, Esq., or Thomas DePriest, Esq., U.S. Department of Energy, Office of General Counsel, Mail Stop GC-72, Forrestal Building, 1000 Independence Avenue, SW., Washington, DC 20585-0103, (202) 586-9507; e-mail: Francine.Pinto@hq.doe.gov, or Thomas.DePriest@hq.doe.gov.

SUPPLEMENTARY INFORMATION: Title III of the Energy Policy and Conservation Act (EPCA) sets forth a variety of provisions concerning energy efficiency. Part B of Title III (42 U.S.C. 6291-6309) provides for the “Energy Conservation Program for Consumer Products other than Automobiles.” Part C of Title III (42 U.S.C. 6311-6317) provides for an energy efficiency program entitled “Certain Industrial Equipment,” which is similar to the program in Part B, and which includes commercial air conditioning equipment, packaged boilers, water heaters, and other types of commercial equipment.

Today's notice involves both residential equipment under Part B, and commercial equipment under Part C. Both Parts specifically provide for definitions, test procedures, labeling provisions, energy conservation standards, and the authority to require information and reports from manufacturers. With respect to test procedures, both Parts generally authorize the Secretary of Energy to prescribe test procedures that are reasonably designed to produce results which reflect energy efficiency, energy use and estimated annual operating costs, and that are not unduly burdensome to conduct. (42 U.S.C. 6293, 6314)

Fujitsu's petition requests a waiver from both the residential and commercial test procedures for its Airstage product, which is sold for both residential and commercial applications.

As noted above, the test procedure for residential products appears at 10 CFR Part 430, Subpart B.

For commercial package air-conditioning and heating equipment, EPCA provides that the test procedures shall be those generally accepted industry testing procedures developed or recognized by the Air-Conditioning and Refrigeration Institute (ARI) or by the American Society of Heating, Refrigerating and Air Conditioning Engineers (ASHRAE), as referenced in ASHRAE/IES Standard 90.1 and in effect on June 30, 1992. (42 U.S.C. 6314(a)(4)(A)) This section also provides for the Secretary of Energy to amend the test procedure for a product if the industry test procedure is amended, unless the Secretary determines that such a modified test procedure does not meet the statutory criteria. (42 U.S.C. 6314(a)(4)(B)) On October 21, 2004, the Department published a direct final rule adopting ARI Standard 210/240-2003 for small commercial package air conditioning and heating equipment ≤65,000 Btu/h. (69 FR 61962)

The test procedures in that direct final rule apply to three-phase products, but the Fujitsu product is single phase for both residential and commercial use. There is no prescribed test procedure for single-phase, small commercial packaged air conditioning and heating equipment, so no test procedure waiver is required for commercial Airstage products. Moreover, Fujitsu's Airstage products are, since they are distributed in commerce, to a significant extent, for personal use or consumption by individuals, properly classified as a consumer product. (42 U.S.C. 6291(1)(B)) Thus, the Fujitsu Airstage products require a waiver only from the Department's residential test procedure, which appears at 10 CFR Part 430, Subpart B.

The Department's regulations contain provisions allowing a person to seek a waiver from the test procedure requirements for covered consumer products. These provisions are set forth in 10 CFR 430.27. The waiver provisions allow the Assistant Secretary for Energy Efficiency and Renewable Energy to waive temporarily test procedures for a particular basic model when a petitioner shows that the basic model contains one or more design characteristics that prevent testing according to the prescribed test procedures, or when the prescribed test procedures may evaluate the basic model in a manner so unrepresentative of its true energy consumption as to provide materially inaccurate comparative data. (10 CFR Sections 430.27 (a)(1)) Waivers generally remain in effect until final test procedure amendments become effective, thereby resolving the problem that is the subject of the waiver.

On June 14, 2004, Fujitsu filed a Petition for Waiver from the test procedures applicable to residential and commercial package air conditioning and heating equipment. In particular, Fujitsu seeks a waiver from the residential test procedure contained in 10 CFR Part 430, Subpart B, Appendix M. As previously discussed, no waiver from the commercial test procedure is required. Fujitsu seeks a waiver from the test procedure for its Airstage variable refrigerant flow system, multi-split air conditioner and heat pump models listed below:

Outdoor unit, Heat pump type: AOU54U****

51.9 kBtu/hr cooling/54.4 kBtu/hr heating, single phase, 208-230Vac, 60Hz

Outdoor unit, Cooling only type: AOU54F****

51.9 kBtu/hr cooling, single phase, 208-230Vac, 60Hz

Indoor units:

AR Series, Compact duct type (ceiling/floor standing), ARU 7/9/12/14/18/20/22****

AR Series, Duct type, ARU25/30/36/45****

AS Series, Wall mounted type, ASU7/9/12/14/18/24/30****

AU Series, Compact ceiling cassette type, AUU7/9/12/14/18****

AU Series, Ceiling cassette type, AUU20/25/30/36/45/54****

The * denotes engineering differences in the basic models.

Fujitsu seeks a waiver from the applicable test procedure because, Fujitsu asserts, the current test procedure evaluates its Airstage products in a manner that is not representative of their true energy efficiency. Fujitsu claims that the energy usage of its Airstage systems cannot be representatively measured using the current test procedure for the following reasons:

1. The test procedure provides for testing of a pair of indoor and outdoor assemblies making up a typical split system, but provides no direction about how Airstage units, with more than ten thousand combinations of indoor units, could be evaluated with just one outdoor unit test.

2. The test procedure calls for testing “matched assemblies,” but Airstage systems are designed to be used in zoning systems where the capacity of the indoor units does not match the capacity of the outdoor unit.

The Fujitsu petition requests that DOE grant a waiver from the existing test procedure until such time as DOE can develop and adopt a test procedure that properly measures the energy efficiency for this class of products. Fujitsu intends to work with DOE, stakeholders, and ARI to develop the appropriate test procedure.

The Department is publishing Fujitsu's Petition for Waiver in its entirety. The Petition contains no confidential information. The Department solicits comments, data, and information with respect to the Petition. The Department is particularly interested in receiving comments and views of interested parties concerning any alternate test procedures, or modifications to test procedures, which the Department could use to fairly represent the energy efficiency of Fujitsu's Airstage products. Any person submitting written comments must also send a copy of such comments to the petitioner. 10 CFR 430.27(b)(1)(iv).

Issued in Washington, DC, on January 28, 2005.
David K. Garman,
Assistant Secretary, Energy Efficiency and Renewable Energy.

BILLING CODE 6450-01-P

Enclosure

Petition for waiver of test procedure applicable to our “Airstage”, variable refrigerant flow multi-split air conditioners and heat pumps, is as follows;

1. The Design Characteristics

We developed “Airstage” in response to the need for a comfortable, more energy efficient air-conditioning system with simple zoning. This compact 54000BTU/h variable refrigerant flow multi-split system provides economical, comfortable air-conditioning for a wide range of applications both residentially and commercially. It consists of one outdoor unit, using a DC Inverter scroll compressor with variable capacity, mated to multiple indoor units and uses variable refrigerant flow and control systems. Piping connections are made by separation tube and/or header and electronic expansion valve units.

Airstage” has the capability of connecting a single outdoor unit with up to 8 indoor units selected from 5 chassis types with 29 basic models (listed in item 4 of this enclosure), giving these systems more than ten thousand installation combinations. The operating characteristics allow each indoor unit to have a different set temperature and a different mode of operation (i.e. on/off/fan).

The DC Inverter scroll compressor and system controls maintain compressor operation under optimum pressure. To precisely match the performance of the system to the load of the conditioned areas, “Airstage” detects information on capacity (refrigerant requirements) in the indoor units and temperature (converted into pressure value) of refrigerant gas fed into the compressor through the refrigerant flow system.

The compressor is capable of reducing its operating capacity to as little as 20% of its rated capacity. Zone diversity enables “Airstage” to have a total connected indoor unit capacity of up to 150% of the capacity of the outdoor unit.

2. The Grounds for the Petition

We seek a waiver from the test procedures applicable to central air conditioners and central air conditioning heat pumps under Title III of the Energy Policy and Conservation Act (EPCA), Part B of Title III (42 U.S.C. 6291-6309) Energy Conservation Program for Consumer Products other than Automobiles and 10 CFR 430 Energy Conservation Program for Consumer Products and Part C of Title III (42 U.S.C. 6311-6317) Energy Efficiency of Industrial Equipment and 10 CFR 431 Energy Efficiency Program for Certain Commercial and Industrial Equipment.

In particular, we seek a waiver from the currently applicable test procedures provided in 10 CFR 430. 23 (m) Central Air Conditioners and 10CFR 430.27 Appendix M, Subpart B Uniform Test Method for Measuring the Energy Consumption of Central Air Conditioners for residential uses and ARI 210/240 (1989) and ARI 210/240 (1994) that you intend to adopt for commercial uses.

3. The Specific Requirements Sought To Be Waived and the Need for the Waiver

We seek a waiver from the applicable test procedures for “Airstage”, because the current test procedures evaluates “Airstage” in a manner so unrepresentative of its true energy consumption as to provide materially inaccurate comparative data. We indicate two reasons and describe the details as follows;

(1) The test procedures provide for testing of a pair of indoor and outdoor assemblies making up a typical split system, but provides no direction about how “Airstage”, with more than ten thousand combinations of indoor units, could be evaluated with just one outdoor unit test.

The test procedures do not provide for separate testing of indoor and outdoor unit of split systems. Rather, they provide for the indoor and outdoor unit to be tested together. Almost all of the systems covered by test procedures have one outdoor unit matched to one indoor unit.

Typical multi-split central air conditioners and heat pumps systems (a configuration with up to four indoor units and one outdoor unit) are presently tested with all indoor units operating. It is practical for these systems to be tested in this manner because matching of indoor units to the outdoor unit are defined and test can be performed with standard representative combination of outdoor and indoor units. However with “Airstage” there is no standard representative combination of outdoor and indoor units for testing.

Airstage products are intended to be used in zoning systems where an outdoor unit can be connected with up to 8 separate indoor units in a zoned system. Moreover, we offer 29 indoor unit models. Each of these indoor unit models is designed to be used with up to 7 other indoor units, which need not be the same models, in combination with a single outdoor unit. Thus, for each “Airstage” outdoor unit, there are more than ten thousand possible combinations of indoor units that can be matched in a system configuration.

The current test procedure provides no direction for determining what combinations of outdoor unit and indoor units should be tested in these circumstances. While a test procedure using two or three indoor units whose total capacity matches that of the outdoor unit may be considered, the results will not entirely represent the system's true energy consumption characteristics. Because the test procedure sets a condition to the ratings based on one test combination among more than ten thousand possible combinations, they do not represent all system combinations and consumers may misread true energy consumption if their system configuration differs from that condition.

However, it is unduly burdensome for us to conduct each possible combination and not practical. Thus, the test procedure does not contemplate, and cannot practically be applied to our “Airstage” consisting of multiple assemblies that are intended to be used in a very large number of different combinations.

(2) The test procedure calls for testing “matched assemblies”, but “Airstage” is designed to be used in zoning systems where the capacity of the indoor units does not match capacity of the outdoor unit.

Indoor and outdoor coils in split systems are typically balanced and the capacity of the outdoor coil is equivalent to the capacity of the indoor coil. However, with “Airstage” the sum of the capacity of the indoor units connected into the system can be as much as 150% of the capacity of the outdoor coil. Such unbalanced combinations of indoor units and outdoor unit are possible because of the zoning characteristics of the system; the use of electronic expansion valves to precisely control refrigerant flow to each indoor unit; and the system intelligence for overall system control. The test procedure designed for matched assemblies does not contemplate or address testing for substantially unbalanced zoning systems.

For these reasons, the existing test procedures evaluate “Airstage” in a manner so unrepresentative of its true energy consumption characteristics as to provide materially inaccurate comparative data.

It is not surprising that the existing test procedures do not address the issues listed above, because variable refrigerant flow multi-split systems are newly developed and recently proposed for use in North American markets. However, without a waiver of the test procedures for variable refrigerant flow multi-split systems like “Airstage”, we are at a competitive disadvantage in the market.

Customers expect us to provide more energy efficiency products however, the current test procedures cannot be meaningfully applied to “Airstage” for the reasons described above. Moreover, if there is an applicable test procedure for a covered product, 42 U.S.C. 6293(c) and 42 U.S.C. 6314(d) of EPCA prohibits a manufacturer from making representations about the energy consumption of the equipment unless the equipment has been tested in accordance with such test procedures and the representation fairly discloses the results of the testing.

Therefore, we are at a disadvantage in our ability to provide information on energy consumption to our customers.

This is particularly counterproductive for the “Airstage” because these systems are specifically designed to deliver energy savings for customers.

We will do our best to explain customers that current test procedures evaluate “Airstage” in a manner so unrepresentative of its true energy consumption characteristics and we applied you for a waiver of test procedures for “Airstage”.

4. Identification of the Basic Models

We seek a waiver from the test procedures for “Airstage”, variable refrigerant flow system multi split air conditioners and heat pumps, listed below;

Outdoor unit, Heat pump type: AOU54U****

15.2kW cooling/16.6kW heating, single phase, 208-230Vac, 60Hz

Outdoor unit, Cooling only type: AOU54F****

15.2kW cooling, single phase, 208-230Vac, 60Hz

Indoor units:

AR Series, Compact duct type (ceiling/floor standing), ARU 7/9/12/14/18/20/22****

AR Series, Duct type, ARU25/30/36/45****,

AS Series, Wall mounted type, ASU7/9/12/14/18/24/30****

AU Series, Compact ceiling cassette type, AUU7/9/12/14/18****

AU Series, Ceiling cassette type, AUU20/25/30/36/45/54****

The * denotes engineering differences in the basic models.

5. Identification of the Manufacturers of All Other Basic Models

Variable refrigerant flow multi split air conditioner and heat pump systems are proposed in the United States by Mitsubishi Electric and Electronics USA Inc. and Samsung Electronics Company, Ltd. However, their application is almost exclusively for commercial or industrial uses and not for residential use. Our “Airstage”, compact, economical and comfortable air-conditioning and heat pump systems, are developed especially for residential and commercial uses.

As far as we know, Samsung Electronics Company, Ltd might offer residential type.

6. Alternate Test Procedures

As we mentioned in (1) of item 3, two or three indoor units whose total capacity match capacity of outdoor unit may be used for testing, but will not entirely represent the true energy consumption characteristics. Thus, there are no alternative test procedures known to us that could evaluate these products in a representative manner.

Conclusion

We seek a waiver of current test procedures established in 10 CFR 430.23(m) Central Air Conditioners and 10 CFR 430.27 Appendix M to Subpart B Uniform Test Method for Measuring the Energy Consumption of Central Air Conditioners for residential uses and ARI 210/240 (1989) and ARI 210/240 (1994) for commercial uses, because the current test procedures evaluate the basic models in a manner so unrepresentative of their true energy consumption characteristics as to provided materially inaccurate comparative data and would like you to grant a waiver from existing test procedures until a representative test procedure is developed and approved by you.

We will work with stakeholders, U.S. Department of Energy, Air-Conditioning & Refrigeration Institute and others, through the process of developing test procedures suitable for products using variable refrigerant flow systems.

[FR Doc. 05-2184 Filed 2-3-05; 8:45 am]

BILLING CODE 6450-01-P